DEPARTMENT OF HOMELAND SECURITY

Federal Emergency Management Agency

[Docket ID FEMA-2014-0002; Internal Agency Docket No. FEMA-B-1444]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: October 9, 2014.
Roy E. Wright,
Deputy Associate Administrator for Mitigation, Department of Homeland Security, Federal Emergency Management Agency.

State and county | Location and case No. | Chief executive officer of community | Community map repository | Online location of letter of map revision | Effective date of modification | Community No.
Arkansas: Sebastian | City of Fort Smith (13-06-0554P) | Mr. Ray Gosack, Administrator, City of Fort Smith, P.O. Box 1908, Fort Smith, AR 72902 | 623 Garrison Avenue, 3rd Floor, Room 315, Fort Smith, AR 72901 | http://www.msc.fema.gov/lomc | Jan. 23, 2015 | 055013
Kentucky: Boyd | Unincorporated areas of Boyd County (14-04-3344P) | The Honorable William “Bud” Stevens, Boyd County Judge Executive, P.O. Box 423, Catlettsburg, KY 41129 | Boyd County Courthouse, 2800 Louisa Street, Catlettsburg, KY 41129 | http://www.msc.fema.gov/lomc | Jan. 15, 2015 | 210016
Maryland:
Worcester | Town of Ocean City (14-03-1372P) | The Honorable Richard W. Meehan, Mayor, Town of Ocean City, P.O. Box 158, Ocean City, MD 21842 | Planning and Zoning Division, 301 North Baltimore Avenue, Ocean City, MD 21842 | http://www.msc.fema.gov/lomc | Dec. 26, 2014 | 245207
Worcester | Town of Ocean City (14-03-1373P) | The Honorable Richard W. Meehan, Mayor, Town of Ocean City, P.O. Box 158, Ocean City, MD 21842 | Planning and Zoning Division, 301 North Baltimore Avenue, Ocean City, MD 21842 | http://www.msc.fema.gov/lomc | Dec. 26, 2014 | 245207
Worcester | Town of Ocean City (14-03-1375P) | The Honorable Richard W. Meehan, Mayor, Town of Ocean City, P.O. Box 158, Ocean City, MD 21842 | Planning and Zoning Division, 301 North Baltimore Avenue, Ocean City, MD 21842 | http://www.msc.fema.gov/lomc | Dec. 26, 2014 | 245207
New Mexico:
Bernalillo | City of Albuquerque (14-06-0305P) | The Honorable Richard J. Berry, Mayor, City of Albuquerque, P.O. Box 1293, Albuquerque, NM 87103 | Development and Review Services Division, 600 2nd Street Northwest, Suite 201, Albuquerque, NM 87102 | http://www.msc.fema.gov/lomc | Jan. 2, 2015 | 350002
Bernalillo | Unincorporated areas of Bernalillo County (14-06-0097P) | The Honorable Debbie O'Malley, Chairman, Bernalillo County Board of Commissioners, 1 Civic Plaza Northwest, Albuquerque, NM 87102 | Bernalillo County Public Works Division, 2400 Broadway Boulevard Southeast, Albuquerque, NM 87102 | http://www.msc.fema.gov/lomc | Dec. 26, 2014 | 350001
New York:
Cattaraugus | Town of Ellicottville (14-02-1952P) | The Honorable John Burrell, Supervisor, Town of Ellicottville, P.O. Box 600, Ellicottville, NY 14731 | Building Department Office, 9 Mill Street, Ellicottville, NY 14731 | http://www.msc.fema.gov/lomc | Feb. 4, 2015 | 360069
Cattaraugus | Village of Ellicottville (14-02-1952P) | The Honorable Charles R. Coolidge, Mayor, Village of Ellicottville, P.O. Box 475, Ellicottville, NY 14731 | Building Department Office, 9 Mill Street, Ellicottville, NY 14731 | http://www.msc.fema.gov/lomc | Feb. 4, 2015 | 360070
Dutchess | Town of Beekman (14-02-0532P) | The Honorable Barbara Zulauf, Supervisor, Town of Beekman, 4 Main Street, Poughquag, NY 12570 | Beekman Town Hall, 4 Main Street, Poughquag, NY 12570 | http://www.msc.fema.gov/lomc | Mar. 2, 2015 | 361333
Rockland | Town of Clarkstown (14-02-1889P) | The Honorable Alexander J. Gromack, Supervisor, Town of Clarkstown, 10 Maple Avenue, New City, NY 10956 | Clarkstown Town Hall, 10 Maple Avenue, New City, NY 10956 | http://www.msc.fema.gov/lomc | Feb. 18, 2015 | 360679
Ohio: Tuscarawas | Unincorporated areas of Tuscarawas County (14-05-2619P) | The Honorable Chris Abbuhl, President, Tuscarawas County Board of Commissioners, 125 East High Avenue, New Philadelphia, OH 44663 | Tuscarawas County Administrative Office, 125 East High Avenue, New Philadelphia, OH 44663 | http://www.msc.fema.gov/lomc | Jan. 12, 2015 | 390782
Texas:
Bastrop | Unincorporated areas of Bastrop County (14-06-0986P) | The Honorable Paul Pape, Bastrop County Judge, 804 Pecan Street, Bastrop, TX 78602 | Bastrop County, Tax Assessor and Development Services Building, 211 Jackson Street, Bastrop, TX 78602 | http://www.msc.fema.gov/lomc | Jan. 9, 2015 | 481193
Bexar | City of San Antonio (14-06-1774P) | The Honorable Ivy R. Taylor, Mayor, City of San Antonio, P.O. Box 839966, San Antonio, TX 78283 | Department of Public Works, Stormwater Engineering, 1901 South Alamo Street, 2nd Floor, San Antonio, TX 78204 | http://www.msc.fema.gov/lomc | Jan. 15, 2015 | 480045
Bexar | Unincorporated areas of Bexar County (13-06-4182P) | The Honorable Nelson W. Wolff, Paul Elizondo Tower, 101 West Nueva Street, 10th Floor, San Antonio, TX 78205 | Bexar County Public Works Department, 233 North Pecos-La Trinidad Street, Suite 420, San Antonio, TX 78207 | http://www.msc.fema.gov/lomc | Jan. 8, 2015 | 480035
Burnet | Unincorporated areas of Burnet County (14-06-1364P) | The Honorable Donna Klaeger, Burnet County Judge, 220 South Pierce Street, Burnet, TX 78611 | Burnet County Courthouse, 220 South Pierce Street, Burnet, TX 78611 | http://www.msc.fema.gov/lomc | Dec. 8, 2014 | 481209
Dallas | City of Farmers Branch (14-06-0555P) | The Honorable Bob Phelps, Mayor, City of Farmers Branch, 13000 William Dodson Parkway, Farmers Branch, TX 75234 | City Hall, 13000 William Dodson Parkway, Farmers Branch, TX 75234 | http://www.msc.fema.gov/lomc | Jan. 2, 2015 | 480174
Dallas | Town of Addison (14-06-0555P) | The Honorable Todd Meier, Mayor, Town of Addison, P.O. Box 9010, Addison, TX 75001 | Public Works Department, 16801 Westgrove Drive, Addison, TX 75001 | http://www.msc.fema.gov/lomc | Jan. 2, 2015 | 481089
Dallas and Denton | City of Lewisville (14-06-1734P) | The Honorable Dean Ueckert, Mayor, City of Lewisville, P.O. Box 299002, Lewisville, TX 75029 | City Hall, 151 West Church Street, Lewisville, TX 75057 | http://www.msc.fema.gov/lomc | Dec. 1, 2014 | 480195
Denton | City of The Colony (14-06-2342P) | The Honorable Joe McCourry, Mayor, City of The Colony, 6800 Main Street, The Colony, TX 75056 | 6800 Main Street, The Colony, TX 75056 | http://www.msc.fema.gov/lomc | Dec. 15, 2014 | 481581
Denton | City of The Colony (14-06-2287P) | The Honorable Joe McCourry, Mayor, City of The Colony, 6800 Main Street, The Colony, TX 75056 | 6800 Main Street, The Colony, TX 75056 | http://www.msc.fema.gov/lomc | Jan. 20, 2015 | 481581
Denton | Town of Flower Mound (14-06-0962P) | The Honorable Thomas Hayden, Mayor, Town of Flower Mound, 2121 Cross Timbers Road, Flower Mound, TX 75028 | Engineering Department, 1001 Cross Timbers Road, Suite 3220, Flower Mound, TX 75028 | http://www.msc.fema.gov/lomc | Dec. 11, 2014 | 480777
Denton | Unincorporated areas of Denton County (14-06-0224P) | The Honorable Mary Horn, Denton County Judge, 110 West Hickory Street, 2nd Floor, Denton, TX 76201 | Denton County Government Center, 1505 East McKinney Street, Suite 175, Denton, TX 76209 | http://www.msc.fema.gov/lomc | Dec. 12, 2014 | 480774
El Paso | City of El Paso (14-06-0855P) | The Honorable Oscar Leeser, Mayor, City of El Paso, 300 North Campbell Street, El Paso, TX 79901 | Engineering Department, 222 South Campbell Street, El Paso, TX 79901 | http://www.msc.fema.gov/lomc | Jan. 21, 2015 | 480214
Galveston | City of League City (13-06-3403P) | The Honorable Timothy Paulissen, Mayor, City of League City, 300 West Walker Street, League City, TX 77573 | Planning Department, 1535 Dickinson Avenue, League City, TX 77573 | http://www.msc.fema.gov/lomc | Dec. 26, 2014 | 485488
Harris | Unincorporated areas of Harris County (14-06-3038P) | The Honorable Ed M. Emmett, Harris County Judge, 1001 Preston Street, Suite 911, Houston, TX 77002 | Harris County Permits Office, 10555 Northwest Freeway, Suite 120, Houston, TX 77092 | http://www.msc.fema.gov/lomc | Dec. 26, 2014 | 480287
Harris | Unincorporated areas of Harris County (14-06-2404P) | The Honorable Ed M. Emmett, Harris County Judge, 1001 Preston Street, Suite 911, Houston, TX 77002 | Harris County Permits Office, 10555 Northwest Freeway, Suite 120, Houston, TX 77092 | http://www.msc.fema.gov/lomc | Jan. 12, 2015 | 480287
Tarrant | City of Fort Worth (14-06-1000P) | The Honorable Betsy Price, Mayor, City of Fort Worth, 1000 Throckmorton Street, Fort Worth, TX 76102 | Department of Transportation and Public Works, 1000 Throckmorton Street, Fort Worth, TX 76102 | http://www.msc.fema.gov/lomc | Dec. 17, 2014 | 480596
Tarrant | City of Hurst (14-06-1807P) | The Honorable Richard Ward, Mayor, City of Hurst, 1505 Precinct Line Road, Hurst, TX 76054 | Public Works Administration Office, 1505 Precinct Line Road, Hurst, TX 76054 | http://www.msc.fema.gov/lomc | Dec. 29, 2014 | 480601
Virginia: Loudoun | Town of Leesburg (14-03-1028P) | The Honorable Kristen C. Umstattd, Mayor, Town of Leesburg, 25 West Market Street, Leesburg, VA 20176 | Town Hall, 25 West Market Street, Leesburg, VA 20176 | http://www.msc.fema.gov/lomc | Jan. 8, 2015 | 510091

[FR Doc. 2014-25392 Filed 10-24-14; 8:45 am]

BILLING CODE 9110-12-P